DEPARTMENT OF COMMERCE

National Oceanic and Atmospheric Administration

Agency Information Collection Activities; Submission to the Office of Management and Budget (OMB) for Review and Approval; Comment Request; Alaska Crab Arbitration

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 14, 2020 (85 FR 56583) during a 60-day comment period. This notice allows for an additional 30 days for public comments.

Agency: National Oceanic and Atmospheric Administration (NOAA).

Title: Alaska Crab Arbitration.

OMB Control Number: 0648-0516.

Form Number(s): None.

Type of Request: Regular submission (extension of a current information collection).

Number of Respondents: 2.

Average Hours per Response: Annual Arbitration Organization Report, 6 hours; Cost Allocation Agreement, 16 hours.

Total Annual Burden Hours: 28.

Needs and Uses: The National Marine Fisheries Service (NMFS), Alaska Regional Office, is requesting renewal of a currently approved information collection. This information collection contains the reports for the Crab Rationalization Program Arbitration System.

The Crab Rationalization Program allocates Bering Sea and Aleutian Islands (BSAI) crab resources among harvesters, processors, and coastal communities through a limited access system that balances the interests of these groups who depend on these fisheries. Under the CR Program, eligible License Limitation Program license holders were issued crab quota shares (QS), which are long term shares, based on their qualifying harvest histories. The QS yield annual individual fishing quota (IFQ), which represent a privilege to receive a certain amount of crab harvested with IFQ. Processor quota shares (PQS) are long term shares issued to processors. The PQS yield annual individual processor quota (IPQ), which represent a privilege to receive a certain amount of crab harvested with Class A IFQ.

The Crab Rationalization Program Arbitration System is a series of steps that harvesters and processors can use to negotiate delivery and price contracts. The Arbitration System allows unaffiliated Class A IFQ holders to initiate an arbitration proceeding in the event of a dispute to allow an independent third party to provide a review of harvester and processor negotiation positions and provide an independent and binding resolution to issues under dispute. To use the Arbitration System, a harvester must commit deliveries to a processor and initiate a binding arbitration proceeding in advance of the season opening. The Arbitration System is designed to minimize antitrust risks for crab harvesters and processors and is intended to ensure that a reasonable price is paid for all landings.

The Arbitration System requires several information collections that are submitted annually in accordance with the regulations at 50 CFR 680.20. The Annual Arbitration Organization Report, the Market Report, and the Non-binding Price Formula Report are the primary reports submitted to NMFS each year. Also submitted are the Contract Arbitrator Report and the Cost Allocation Agreement.

An Annual Arbitration Organization Report is compiled by each of the two arbitration organizations; one represents the processors, and the second represents the harvesters. This report includes information on the arbitration organization and its management personnel, the crab QS fisheries to which the report applies, the ownership interest and the QS/IFQ or PQS/IPQ held by each member; and the arbitration process.

The Cost Allocation Agreement provides combined shared arbitration accounting costs. Federal regulations for the CR Program require that the crab arbitration costs are shared equally between IPQ holders and Class A IFQ holders—processors pay half and fishermen pay half.

The arbitration organizations use contracted parties to meet the requirements of the Market Report, Non-binding Price Formula Report, and Contractor Arbitrator Report.

The Non-binding Price Formula Report is a pre-season report that is designed to serve as a starting point for negotiations between fishermen and processors, or as a starting point for an arbitrator in evaluating offers in an arbitration process. This report documents how each formula was developed.

The Market Report provides an analysis of the market for products of a specific crab fishery and reports on activities occurring within three months prior to its generation. The purpose of this report is to provide background information on each crab fishery, the products generated by each fishery, and position of those products in the marketplace; discuss the historical division of wholesale revenue; and provide the methods for predicting wholesale prices before the fishery occurs.

The Contract Arbitrator Report documents arbitration proceedings if they occur within a fishery.

Affected Public: Individuals or households; Business or other for-profit organizations.

Frequency: Annually; On occasion.

Respondent's Obligation: Mandatory.

Legal Authority: Magnuson-Stevens Fishery Conservation and Management Act (16 U.S.C. 1801 et seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0516.

Sheleen Dumas,
Department PRA Clearance Officer, Office of the Chief Information Officer, Commerce Department.

[FR Doc. 2021-01068 Filed 1-15-21; 8:45 am]

BILLING CODE 3510-22-P